SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: March 1, 2011, through April 30, 2011.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals By Rule Issued Under 18 CFR 806.22(e):

1. Hydro Recovery, LP, Treatment Plant For High TDS Fluids, ABR-201103052, Lawrence Township, Clearfield County, Pa.; Consumptive Use of up to 0.200 mgd; Approval Date: March 31, 2011.

Approvals By Rule Issued Under 18 CFR 806.22(f):

1. EOG Resources, Inc., Pad ID: COP Pad N, ABR-201103001, Lawrence Township, Clearfield County, Pa.; Consumptive Use of up to 4.999 mgd; Approval Date: March 4, 2011.

2. Penn Virginia Oil & Gas Corporation, Pad ID: Hurler Pad, ABR-201103002, Harrison Township, Potter County, Pa.; Consumptive Use of up to 4.000 mgd; Approval Date: March 7, 2011.

3. Talisman Energy USA Inc., Pad ID: 02 128 Brier Mountain Sportsmen, ABR-201103003, Liberty Township, Tioga County, Pa.; Consumptive Use of up to 6.000 mgd; Approval Date: March 9, 2011.

4. Talisman Energy USA Inc., Pad ID: 05 102 Wheeler E, ABR-201103004, Warren Township, Bradford County, Pa.; Consumptive Use of up to 6.000 mgd; Approval Date: March 9, 2011.

5. Talisman Energy USA Inc., Pad ID: 03 088 Andrews A, ABR-201103005, Wells Township, Bradford County, Pa.; Consumptive Use of up to 6.000 mgd; Approval Date: March 11, 2011.

6. Southwestern Energy Production Company, Pad ID: Mastri Pad, ABR-201103006, Lenox Township, Susquehanna County, Pa.; Consumptive Use of up to 4.990 mgd; Approval Date: March 11, 2011.

7. Southwestern Energy Production Company, Pad ID: Ransom Pad, ABR-201103007, Lenox Township, Susquehanna County, Pa.; Consumptive Use of up to 4.990 mgd; Approval Date: March 11, 2011.

8. Southwestern Energy Production Company, Pad ID: Valentine.A Pad, ABR-201103008, Lenox Township, Susquehanna County, Pa.; Consumptive Use of up to 4.990 mgd; Approval Date: March 11, 2011.

9. Cabot Oil & Gas Corporation, Pad ID: HawleyJ P1, ABR-201103009, Forest Lake Township, Susquehanna County, Pa.; Consumptive Use of up to 3.575 mgd; Approval Date: March 11, 2011.

10. Aruba Petroleum, Inc., Pad ID: Lundy Well Pad, ABR-201103010, Gamble Township, Lycoming County, Pa.; Consumptive Use of up to 3.600 mgd; Approval Date: March 11, 2011.

11. Chesapeake Appalachia, LLC, Pad ID: DPH, ABR-201103011, Windham Township, Wyoming County, Pa.; Consumptive Use of up to 7.500 mgd; Approval Date: March 14, 2011.

12. Chesapeake Appalachia, LLC, Pad ID: Dziuba, ABR-201103012, Tuscarora Township, Bradford County, Pa.; Consumptive Use of up to 7.500 mgd; Approval Date: March 14, 2011.

13. Chesapeake Appalachia, LLC, Pad ID: Acton, ABR-201103013, Rome Township, Bradford County, Pa.; Consumptive Use of up to 7.500 mgd; Approval Date: March 16, 2011.

14. Chief Oil & Gas LLC, Pad ID: W & L Wilson Drilling Pad #1, ABR-201103014, Lemon Township, Wyoming County, Pa.; Consumptive Use of up to 2.000 mgd; Approval Date: March 16, 2011.

15. Chief Oil & Gas LLC, Pad ID: PMG Annie Drilling Pad #1, ABR-201103015, Springville Township, Susquehanna County, Pa.; Consumptive Use of up to 2.000 mgd; Approval Date: March 17, 2011.

16. Chief Oil & Gas LLC, Pad ID: R & A Harris Drilling Pad #1, ABR-201103016, Tunkhannock Township, Wyoming County, Pa.; Consumptive Use of up to 2.000 mgd; Approval Date: March 17, 2011.

17. SWEPI LP, Pad ID: M L Mitchell Trust 554, ABR-201103017, Middlebury Township, Tioga County, Pa.; Consumptive Use of up to 4.000 mgd; Approval Date: March 17, 2011.

18. EXCO Resources (PA), LLC, Pad ID: Arthur Pad, ABR-201103018, Franklin Township, Lycoming County, Pa.; Consumptive Use of up to 8.000 mgd; Approval Date: March 17, 2011.

19. Chesapeake Appalachia, LLC, Pad ID: Burke, ABR-201103019, Wilmot Township, Bradford County, Pa.; Consumptive Use of up to 7.500 mgd; Approval Date: March 17, 2011.

20. Cabot Oil & Gas Corporation, Pad ID: ZickJ P1, ABR-201103020, Lenox Township, Susquehanna County, Pa.; Consumptive Use of up to 3.575 mgd; Approval Date: March 17, 2011.

21. EOG Resources, Inc., Pad ID: SGL 90D Pad, ABR-201103021, Lawrence Township, Clearfield County, Pa.; Consumptive Use of up to 4.999 mgd; Approval Date: March 22, 2011.

22. Chesapeake Appalachia, LLC, Pad ID: Jones Pad, ABR-201103022, Standing Stone Township, Bradford County, Pa.; Consumptive Use of up to 7.500 mgd; Approval Date: March 22, 2011.

23. EOG Resources, Inc., Pad ID: PPHC Pad B, ABR-201103023, Lawrence Township, Clearfield County, Pa.; Consumptive Use of up to 4.999 mgd; Approval Date: March 22, 2011.

24. EOG Resources, Inc., Pad ID: PHC Pad Z, ABR-201103024, Lawrence Township, Clearfield County, Pa.; Consumptive Use of up to 4.999 mgd; Approval Date: March 22, 2011.

25. EOG Resources, Inc., Pad ID: PHC Pad DD, ABR-201103025, Lawrence Township, Clearfield County, Pa.; Consumptive Use of up to 4.999 mgd; Approval Date: March 22, 2011.

26. Carrizo Marcellus, LLC, Pad ID: Kile, ABR-201103026, Washington Township, Wyoming County, Pa.; Consumptive Use of up to 2.100 mgd; Approval Date: March 22, 2011.

27. EOG Resources, Inc., Pad ID: PHC Pad CC, ABR-201103027, Lawrence Township, Clearfield County, Pa.; Consumptive Use of up to 4.999 mgd; Approval Date: March 22, 2011.

28. EOG Resources, Inc., Pad ID: PHC Pad BB, ABR-201103028, Lawrence Township, Clearfield County, Pa.; Consumptive Use of up to 4.999 mgd; Approval Date: March 22, 2011.

29. EOG Resources, Inc., Pad ID: COP Pad S, ABR-201103029, Lawrence Township, Clearfield County, Pa.; Consumptive Use of up to 4.999 mgd; Approval Date: March 22, 2011.

30. EOG Resources, Inc., Pad ID: COP Pad O, ABR-201103030, Lawrence Township, Clearfield County, Pa.; Consumptive Use of up to 4.999 mgd; Approval Date: March 22, 2011.

31. Range Resources—Appalachia, LLC, Pad ID: Bobst Mountain Hunting Club #18H—#23H Drilling Pad, ABR-201103031, Cogan House Township, Lycoming County, Pa.; Consumptive Use of up to 5.000 mgd; Approval Date: March 22, 2011.

32. XTO Energy Incorporated, Pad ID: Litwhiler Unit A, ABR-201103032, Pine Township, Columbia County, Pa.; Consumptive Use of up to 4.000 mgd; Approval Date: March 22, 2011.

33. XTO Energy Incorporated, Pad ID: Renn Unit A, ABR-201103033, Jordan Township, Lycoming County, Pa.; Consumptive Use of up to 4.000 mgd; Approval Date: March 22, 2011.

34. XTO Energy Incorporated, Pad ID: Raymond Unit B, ABR-201103034, Pine Township, Columbia County, Pa.; Consumptive Use of up to 4.000 mgd; Approval Date: March 22, 2011.

35. Carrizo Marcellus, LLC, Pad ID: Mazzara, ABR-201103035, Washington Township, Wyoming County, Pa.; Consumptive Use of up to 2.100 mgd; Approval Date: March 22, 2011.

36. Anadarko E&P Company LP, Pad ID: Eugene P Nelson Pad A, ABR-201103036, Cascade Township, Lycoming County, Pa.; Consumptive Use of up to 4.000 mgd; Approval Date: March 23, 2011.

37. SWEPI LP, Pad ID: Butler 853, ABR-201103037, Middlebury Township, Tioga County, Pa.; Consumptive Use of up to 4.000 mgd; Approval Date: March 23, 2011.

38. Anadarko E&P Company LP, Pad ID: Cynthia M Knispel Pad A, ABR-201103038, Cogan House Township, Lycoming County, Pa.; Consumptive Use of up to 4.000 mgd; Approval Date: March 24, 2011.

39. EXCO Resources (PA), LLC, Pad ID: Cadwalader Pad, ABR-201103039, Cogan House Township, Lycoming County, Pa.; Consumptive Use of up to 8.000 mgd; Approval Date: March 24, 2011.

40. Chief Oil & Gas LLC, Pad ID: Kerrick Drilling Pad #1, ABR-201103040, Asylum Township, Bradford County, Pa.; Consumptive Use of up to 2.000 mgd; Approval Date: March 24, 2011.

41. Chesapeake Appalachia, LLC, Pad ID: Sarah, ABR-201103041, Athens Township, Bradford County, Pa.; Consumptive Use of up to 7.500 mgd; Approval Date: March 25, 2011.

42. Seneca Resources Corporation, Pad ID: DCNR 007 PAD C, ABR-201103042, Shippen Township, Tioga County, Pa.; Consumptive Use of up to 4.000 mgd; Approval Date: March 25, 2011.

43. Range Resources—Appalachia, LLC, Pad ID: Gulf USA #63H Drilling Pad, ABR-201103043, Snow Shoe Township, Centre County, Pa.; Consumptive Use of up to 5.000 mgd; Approval Date: March 25, 2011.

44. Chesapeake Appalachia, LLC, Pad ID: Barclay, ABR-201103044, Franklin Township, Bradford County, Pa.; Consumptive Use of up to 7.500 mgd; Approval Date: March 28, 2011.

45. SWEPI LP, Pad ID: Weiner 882, ABR-201103045, Farmington Township, Tioga County, Pa.; Consumptive Use of up to 4.000 mgd; Approval Date: March 25, 2011.

46. SWEPI LP, Pad ID: Salevsky 335, ABR-201103046, Charleston Township, Tioga County, Pa.; Consumptive Use of up to 4.000 mgd; Approval Date: March 25, 2011.

47. Seneca Resources Corporation, Pad ID: DCNR 595 PAD C, ABR-201103047, Bloss Township, Tioga County, Pa.; Consumptive Use of up to 4.000 mgd; Approval Date: March 28, 2011.

48. Chief Oil & Gas LLC, Pad ID: R & L Wilson Drilling Pad #1, ABR-201103048, Eaton Township, Wyoming County, Pa.; Consumptive Use of up to 2.000 mgd; Approval Date: March 28, 2011.

49. Carrizo Marcellus, LLC, Pad ID: Baker West (Brothers), ABR-201103049, Forest Lake Township, Susquehanna County, Pa.; Consumptive Use of up to 2.100 mgd; Approval Date: March 28, 2011.

50. Chesapeake Appalachia, LLC, Pad ID: King, ABR-201103050, Sheshequin Township, Bradford County, Pa.; Consumptive Use of up to 7.500 mgd; Approval Date: March 28, 2011.

51. Chesapeake Appalachia, LLC, Pad ID: Hi-Lev, ABR-201103051, Troy Township, Bradford County, Pa.; Consumptive Use of up to 7.500 mgd; Approval Date: March 28, 2011.

52. Anadarko E&P Company LP, Pad ID: COP Tr 728 D, ABR-201104001, Cummings Township, Lycoming County, Pa.; Consumptive Use of up to 4.000 mgd; Approval Date: April 4, 2011.

53. Chesapeake Appalachia, LLC, Pad ID: Sensinger, ABR-201104002, Franklin Township, Bradford County, Pa.; Consumptive Use of up to 7.500 mgd; Approval Date: April 4, 2011.

54. Ultra Resources, Inc., Pad ID: Geiser 907, ABR-201104003, Abbott Township, Potter County, Pa.; Consumptive Use of up to 4.990 mgd; Approval Date: April 4, 2011.

55. Anadarko E&P Company LP, Pad ID: COP Tr 728 C, ABR-201104004, Watson Township, Lycoming County, Pa.; Consumptive Use of up to 4.000 mgd; Approval Date: April 5, 2011.

56. Range Resources—Appalachia, LLC, Pad ID: Carmen III Unit #1H Drilling Pad, ABR-201104005, Rush Township, Centre County, Pa.; Consumptive Use of up to 5.000 mgd; Approval Date: April 5, 2011.

57. Chief Oil & Gas LLC, Pad ID: McVicker Drilling Pad #1, ABR-201104006, West St. Clair Township, Bedford County, Pa.; Consumptive Use of up to 2.000 mgd; Approval Date: April 5, 2011.

58. Carrizo Marcellus, LLC, Pad ID: Armbruster, ABR-201101007, Jessup Township, Susquehanna County, Pa.; Consumptive Use of up to 2.100 mgd; Approval Date: April 6, 2011.

59. Talisman Energy USA Inc. Pad ID: 05 011 Alderson V, ABR-201104008, Pike Township, Bradford County, Pa.; Consumptive Use of up to 6.000 mgd; Approval Date: April 8, 2011.

60. Chesapeake Appalachia, LLC, Pad ID: Beaver Dam, ABR-201104009, Cherry Township, Sullivan County, Pa.; Consumptive Use of up to 7.500 mgd; Approval Date: April 8, 2011.

61. Chesapeake Appalachia, LLC, Pad ID: WRW, ABR-201104010, Cherry Township, Sullivan County, Pa.; Consumptive Use of up to 7.500 mgd; Approval Date: April 8, 2011.

62. Range Resources—Appalachia, LLC, Pad ID: Null, Eugene Unit #2H—#7H Drilling Pad, ABR-201104011, Lewis Township, Lycoming County, Pa.; Consumptive Use of up to 5.000 mgd; Approval Date: April 8, 2011.

63. Range Resources—Appalachia, LLC, Pad ID: Ritzenthaler Living Trust Unit #1H—#4H Drilling Pad, ABR-201104012, Gamble Township, Lycoming County, Pa.; Consumptive Use of up to 5.000 mgd; Approval Date: April 8, 2011.

64. Range Resources—Appalachia, LLC, Pad ID: Bidlespacher Unit #1H—#4H Drilling Pad, ABR-201104013, Gamble Township, Lycoming County, Pa.; Consumptive Use of up to 5.000 mgd; Approval Date: April 8, 2011.

65. Range Resources—Appalachia, LLC, Pad ID: Shipman, James #1H & #2H Drilling Pad, ABR-201104014, Lewis Township, Lycoming County, Pa.; Consumptive Use of up to 5.000 mgd; Approval Date: April 8, 2011.

66. Chief Oil & Gas LLC, Pad ID: Noble Drilling Pad #1, ABR-201104015, Brooklyn Township, Susquehanna County, Pa.; Consumptive Use of up to 2.000 mgd; Approval Date: April 12, 2011.

67. Range Resources—Appalachia, LLC, Pad ID: Shipman-Goodwill Unit #1H—#4H Drilling Pad, ABR-201104016, Lewis Township, Lycoming County, Pa.; Consumptive Use of up to 5.000 mgd; Approval Date: April 13, 2011.

68. Southwestern Energy Production Company, Pad ID: Price Pad, ABR-201104017, Lenox Township, Susquehanna County, Pa.; Consumptive Use of up to 4.990 mgd; Approval Date: April 13, 2011.

69. Cabot Oil & Gas Corporation, Pad ID: Lyman J P1, ABR-201104018, Springville Township, Susquehanna County, Pa.; Consumptive Use of up to 3.575 mgd; Approval Date: April 15, 2011.

70. Southwestern Energy Production Company, Pad ID: Valentine. F Pad, ABR-201104019, Lenox Township, Susquehanna County, Pa.; Consumptive Use of up to 4.990 mgd; Approval Date: April 15, 2011.

71. Chesapeake Appalachia, LLC, Pad ID: Stempel, ABR-201104020, Asylum Township, Bradford County, Pa.; Consumptive Use of up to 7.500 mgd; Approval Date: April 20, 2011.

72. Chesapeake Appalachia, LLC, Pad ID: Hulslander, ABR-201104021, Smithfield Township, Bradford County, Pa.; Consumptive Use of up to 7.500 mgd; Approval Date: April 20, 2011.

73. Seneca Resources Corporation, Pad ID: DCNR 007 Pad L, ABR-201104022, Shippen Township, Tioga County, Pa.; Consumptive Use of up to 4.000 mgd; Approval Date: April 21, 2011.

74. XTO Energy Incorporated, Pad ID: PA TRACT 8524H, ABR-201104023, Chapman Township, Clinton County, Pa.; Consumptive Use of up to 4.000 mgd; Approval Date: April 22, 2011.

75. Chief Oil & Gas LLC, Pad ID: Taylor Drilling Pad #1, ABR-201104024, Lenox Township, Susquehanna County, Pa.; Consumptive Use of up to 2.000 mgd; Approval Date: April 25, 2011.

76. Chief Oil & Gas LLC, Pad ID: Polovitch West Drilling Pad #1, ABR-201104025, Nicholson Township, Wyoming County, Pa.; Consumptive Use of up to 2.000 mgd; Approval Date: April 25, 2011.

77. Penn Virginia Oil & Gas Corporation, Pad ID: Kibbe Pad, ABR-201104026, Harrison Township, Potter County, Pa.; Consumptive Use of up to 4.500 mgd; Approval Date: April 25, 2011.

78. Chesapeake Appalachia, LLC, Pad ID: Moody, ABR-201104027, Springfield Township, Bradford County, Pa.; Consumptive Use of up to 7.500 mgd; Approval Date: April 25, 2011.

79. Chesapeake Appalachia, LLC, Pad ID: Crain, ABR-201104028, Rome Township, Bradford County, Pa.; Consumptive Use of up to 7.500 mgd; Approval Date: April 26, 2011.

80. Chesapeake Appalachia, LLC, Pad ID: Kingsley, ABR-201104029, Smithfield Township, Bradford County, Pa.; Consumptive Use of up to 7.500 mgd; Approval Date: April 26, 2011.

81. Chesapeake Appalachia, LLC, Pad ID: MPC New, ABR-201104030, Cherry Township, Sullivan County, Pa.; Consumptive Use of up to 7.500 mgd; Approval Date: April 26, 2011

82. SWEPI LP, Pad ID: Swan 1122, ABR-201104031, Farmington Township, Tioga County, Pa.; Consumptive Use of up to 4.000 mgd; Approval Date: April 28, 2011.

Authority: Public Law 91-575, 84 Stat. 1509 et seq., 18 CFR parts 806, 807, and 808.

Dated: May 23, 2011.
Stephanie L. Richardson,
Secretary to the Commission.

[FR Doc. 2011-14026 Filed 6-6-11; 8:45 am]

BILLING CODE 7040-01-P